DEPARTMENT OF JUSTICE

Notice of Lodging of Proposed Consent Decree Under the Comprehensive Environmental Response, Compensation, and Liability Act of 1980, as Amended (“CERCLA”), 42 U.S.C. 9601 et seq.

On July 30, 2014, the Department of Justice lodged a proposed Consent Decree with the United States District Court for the District of Maine in the lawsuit entitled United States v. ConAgra Grocery Products Company, LLC, Civil Action No. 11-cv-0455-NT. The proposed Consent Decree would resolve the United States' claim against ConAgra Grocery Products Company, LLC (“ConAgra”) for reimbursement of past costs under the Comprehensive Environmental Response, Compensation, and Liability Act of 1980, as amended (“CERCLA”), 42 U.S.C. 9601 et seq., relating to the A.C. Lawrence Leather Company Sludge Lagoons Superfund Site, located in South Paris, Maine.

The publication of this notice opens a period for public comment on the Consent Decree. Comments should be addressed to the Assistant Attorney General, Environment and Natural Resources Division, and should refer to United States v. ConAgra Grocery Products Company, LLC, D.J. Ref. No. 90-11-3-10097. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $4.00 (25 cents per page reproduction cost) payable to the United States Treasury. For a paper copy without the exhibits and signature pages, the cost is $3.00.

Robert E. Maher Jr.,
Assistant Section Chief, Environmental Enforcement Section, Environment and Natural Resources Division.

[FR Doc. 2014-18332 Filed 8-1-14; 8:45 am]

BILLING CODE 4410-15-P